DEPARTMENT OF STATE

[Public Notice: 11169]

Bureau of Educational and Cultural Affairs Evaluation Division Monitoring Data for ECA (MODE) Framework Community of Practice Meeting Recording

ACTION: Notice of information.

SUMMARY: The Bureau of Educational and Cultural Affairs' (ECA) Evaluation Division invites current and potential award recipients to review the Community of Practice recording explaining ECA's new monitoring and evaluation (M&E) system, the MODE Framework. The webinar can be found here: https://www.youtube.com/watch?v=1iX6sZK-oK0&feature=youtu.be. All relevant MODE Framework information can be found online here: https://eca.state.gov/impact/eca-evaluation-division/monitoring-data-eca-mode-framework.

FOR FURTHER INFORMATION CONTACT: Questions and requests for additional information regarding the ECA's MODE Framework may be sent to Natalie Donahue, Chief of Evaluation, Bureau of Educational and Cultural Affairs at ecaevaluation@state.gov or 202-632-6193.

SUPPLEMENTARY INFORMATION: Background: The Evaluation Division began development of an enhanced performance monitoring system, the MODE Framework, to enable ECA leadership, program offices, and award recipients to better assess program performance and respond quickly to requests for information. The Evaluation Community of Practice is organized by the ECA Evaluation Division for ECA staff and current ECA award recipients who are interested in learning more about M&E. If you are a current award recipient and would like to join the Community of Practice, please email the ECA Evaluation Division (ecaevaluation@state.gov) to be added to the invitations.

Natalie R. Donahue,
Chief of Evaluation, Bureau of Educational and Cultural Affairs, Department of State.

[FR Doc. 2020-16799 Filed 8-5-20; 8:45 am]

BILLING CODE 4710-05-P